SMALL BUSINESS ADMINISTRATION

[Disaster Declaration #14609]

California Disaster #CA-00243 Declaration of Economic Injury

AGENCY: U.S. Small Business Administration.

ACTION: Amendment 2.

SUMMARY: This is an amendment of the Economic Injury Disaster Loan (EIDL) declaration for the State of California, dated 02/02/2016.

Incident: Ocean Conditions Resulting in the Delayed Commercial Dungeness Crab Season and Closure of Commercial Rock Crab Fishery.

Incident Period: 11/06/2015 and continuing through 11/02/2016.

Effective Date: 11/16/2016.

EIDL Loan Application Deadline Date: 11/02/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of an Economic Injury declaration for the State of California, dated 02/02/2016 is hereby amended to establish the incident period for this disaster as beginning 11/06/2015 and continuing through 11/02/2016.

All other information in the original declaration remains unchanged.

(Catalog of Federal Domestic Assistance Number 59008)

Dated: November 16, 2016.
Maria Contreras-Sweet,
Administrator.

[FR Doc. 2016-28490 Filed 11-25-16; 8:45 am]

BILLING CODE 8025-01-P